EQUAL EMPLOYMENT OPPORTUNITY COMMISSION

Delay in Opening of 2019 EEO-1 Component 1 and 2020 EEO-3 and 2020 EEO-5 Data Collections Due to the Coronavirus Disease 2019 (COVID-19) Public Health Emergency

AGENCY: Equal Employment Opportunity Commission.

ACTION: Notice.

SUMMARY: The U.S. Equal Employment Opportunity Commission (EEOC) announces a delay in the anticipated opening of the 2019 EEO-1 Component 1 data collection and the 2020 EEO-3 and EEO-5 data collections due to the Coronavirus Disease 2019 (COVID-19) public health emergency.

DATES: May 8, 2020. As a result of this Notice, pending approval by the Office of Management and Budget (OMB) under the Paperwork Reduction Act (PRA), the EEOC would expect to begin collecting the 2019 EEO-1 Component 1 along with the 2020 EEO-1 Component 1 in March 2021. The EEOC expects to begin collecting the 2020 EEO-3 and 2020 EEO-5 in January 2021.

FOR FURTHER INFORMATION CONTACT: Rashida Dorsey, Ph.D., MPH, Director, Data Development and Information Products Division and Senior Advisor on Data Strategy, Office of Enterprise Data and Analytics, Equal Employment Opportunity Commission, 131 M Street NE, Room 4SW32L, Washington, DC 20507; (202) 663-4355 (voice) or (202) 663-7063 (TTY) or OEDA@eeoc.gov. Requests for this notice in an alternative format should be made to the Office of Communications and Legislative Affairs at (202) 663-4191 (voice) or (202) 663-4494 (TTY).

SUPPLEMENTARY INFORMATION: In light of the Coronavirus Disease 2019 (COVID-19) public health emergency, and consistent with delays in Federal reporting requirements across the government and other actions taken to relieve employers of unnecessary burdens during this crisis, the Commission is delaying the anticipated opening of the 2019 EEO-1 Component 1 and the 2020 EEO-3 and EEO-5 Data Collections to a time when the agency anticipates that filers will have resumed more normal operations. EEO-1, EEO-3, and EEO-5 filers should begin preparing to submit data in 2021. The EEOC submitted the EEO-1 Component 1 information collection to OMB for approval under the Paperwork Reduction Act on March 23, 2020. Pending approval by OMB, the EEOC would expect to begin collecting the 2019 EEO-1 Component 1 along with the 2020 EEO-1 Component 1 in March 2021 and will notify filers of the precise date the surveys will open as soon as it is available. The EEOC expects to begin collecting the 2020 EEO-3 and the 2020 EEO-5 in January 2021 and will notify filers of the precise date the surveys will open as soon as it is available.

For the Commission.
Janet Dhillon,
Chair.

[FR Doc. 2020-09876 Filed 5-7-20; 8:45 am]

BILLING CODE 6570-01-P